DEPARTMENT OF HEALTH AND HUMAN SERVICES

National Institutes of Health

Office of the Director, National Institutes of Health; Notice of Meeting

Pursuant to section 10(a) of the Federal Advisory Committee Act, as amended, notice is hereby given of a meeting of the NIH Clinical Center Research Hospital Board.

The meeting will be open to the public, with attendance limited to space available. Individuals who plan to attend and need special assistance, such as sign language interpretation or other reasonable accommodations, should notify one of the Contact Persons listed below in advance of the meeting. The meeting can be accessed from the NIH videocast https://videocast.nih.gov/ and the CCRHB website https://ccrhb.od.nih.gov/meetings.html.

Name of Committee: NIH Clinical Center Research Hospital Board.

Date: July 15, 2022.

Time: 9:00 a.m. to 1:00 p.m.

Agenda: NIH and Clinical Center Leadership Announcements, Clinical Center (CC) CEO Update and CEO Status Report on 2019 CC Strategic Plan, Role of the CC Patient Representative, Patient Survey Data, Magnet Journey Updates, and other Business of the Board.

Place: National Institutes of Health, Building 31, Conference Room 6C02A/C602B, 9000 Rockville Pike, Bethesda, MD 20892.

Contact Persons: Patricia Piringer, RN, MSN (C), National Institutes of Health Clinical Center, 10 Center Drive, Bethesda, MD 20892, ppiringer@cc.nih.gov, 301-402-2435, 202-460-7542 (direct).

Natascha Pointer, Management Analyst, Executive Assistant to Dr. Gilman, Office of the Chief Executive Officer, National Institutes of Health Clinical Center, Bethesda, MD 20892, npointer@cc.nih.gov, 301-496-4114, 301-402-2434 (direct).

This notice is being published less than 15 days prior to the meeting due to scheduling difficulties.

Any interested person may file written comments with the committee by forwarding the statement to the Contact Persons listed on this notice. The statement should include the name, address, telephone number and when applicable, the business or professional affiliation of the interested person.

In the interest of security, NIH has procedures for entrance onto the NIH campus. All visitor vehicles, including taxicabs, hotel, and airport shuttles will be inspected before being allowed on campus. Visitors will be asked to show one form of identification (for example, a government-issued photo ID, driver's license, or passport) and to state the purpose of their visit. In regards to COVID 19, please check community level guidelines (https://ors.od.nih.gov/sr/dohs/safety/NIH-covid-19-safety-plan/Pages/default.aspx) and the Safer Federal Workforce for Visitors (https://www.saferfederalworkforce.gov/faq/visitors/) websites before attending a meeting on NIH Main campus and any testing requirements. Please continue checking these websites, in addition to the committee website (https://ccrhb.od.nih.gov/meetings.html), for the most up to date guidance as the meeting date approaches.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: June 24, 2022.
Patricia B. Hansberger,
Supervisory Program Analyst, Office of Federal Advisory Committee Policy.

[FR Doc. 2022-13935 Filed 6-28-22; 8:45 am]

BILLING CODE 4140-01-P